DEPARTMENT OF DEFENSE

Department of the Army, Corps of Engineers

Draft Environmental Impact Statement for a Proposed Highway Between Bush, LA and I-12 in St. Tammany Parish, LA

AGENCY: Department of the Army, U.S. Corps of Engineers, DoD.

ACTION: Notice of Availability.

SUMMARY: The U.S. Army Corps of Engineers (USACE) is issuing this notice to advise the public that a Draft Environmental Impact Statement (DEIS) has been completed and is available for review and comment.

DATES: Comments on the DEIS must be received no later than 5 p.m. Central Standard Time, Monday, October 24, 2011.

ADDRESSES: Send comments to U.S. Corps of Engineers, New Orleans District, 7400 Leake Avenue, New Orleans, LA 70188.

FOR FURTHER INFORMATION CONTACT: Questions about the proposed action and the DEIS should be addressed to James A. Barlow, Jr., PhD, Regulatory Branch, phone (504) 862-2250 or e-mail at james.a.barlow@usace.army.mil, or Ms. Brenda Archer, Regulatory Branch, phone (504) 862-2046 or e-mail at brenda.a.archer@usace.army.mil.

SUPPLEMENTARY INFORMATION: The DEIS has been prepared to address the NEPA, environmental and cultural resource laws, USACE Regulatory Program Regulations (Title 33 of the Code of Federal Regulations [CFR] parts 320-332), including the 33 CFR part 325, Appendix B, and the requirements of the section 404(b)(1) guidelines (40 CFR part 230), to gather information needed for the USACE permit decision-making process regarding a permit application submitted by the Louisiana Department of Transportation and Development (LADOTD). LADOTD proposes construction of a high-speed, four-lane arterial highway from the southern terminus of the current, modern four-lane arterial portion of LA 21 in Bush, Louisiana, to I-12, a distance between 17.4 and 21 miles. The majority of the proposed highway would be designed as a rural arterial road RA-3 with a design speed of 70 miles per hour, which, according to LADOTD, generally equates to a posted speed limit of 65 miles per hour. The typical cross section would have two 12-foot travel lanes, an 8- to 10-foot outside shoulder, and a 4-foot inside shoulder in each direction. The median width would vary depending on highway design class used ranging between 40 and 60 feet, and a maximum ROW requirement of 250 feet. The exception to that design could be as the proposed project transitions into existing roadways (i.e. intersections), and where alternative alignments follow the existing LA 21.

The proposed I-12 to Bush highway is an effort planned by LADOTD and funded by the Transportation Infrastructure Model for Economic Development (TIMED) program (Louisiana Revised Statute 48:820.2). The stated mission of the TIMED program is to, “foster economic development throughout the state of Louisiana and enhance the quality of life for its residents through an investment in transportation projects.” The TIMED program, approved by the 1989 General Session of the Louisiana State Legislature, identified a 15-year construction program funded by a 4-cent fuel tax, which includes the construction of the proposed LA 3241 highway between Bush, LA and I-12 in St. Tammany Parish. Revised Statute 47:820.2.B(1)(e) provides for a project from I-12 to Bush to be constructed as a four-lane or more highway. The proposed highway would provide a four-lane highway connection for Washington and northern St. Tammany Parishes to I-12, with the purported goal of providing for regional transportation needs and stimulating undefined economic growth and activity in the region.

LADOTD has stated that the proposed highway is needed as an alternative north-south connection that could reduce congestion and delays for those traveling from northern St. Tammany Parish and Washington Parish to I-12. As stated by LADOTD, the needs of the proposed action are to: (1) Fulfill the legislative mandate, Louisiana Revised Statute 47:820.2B(e); (2) provide a logical, direct, modern, high-speed, four-lane arterial to I-12 from the southern terminus of the current, modern, four-lane arterial portion of LA 21; (3) divert traffic from Washington and northern St. Tammany Parishes onto a four-lane, modern, high-speed arterial to free capacity for local trips on segments of existing routes in southern suburban areas and reduce congestion during peak and some non-peak periods; and (4) support and enhance the existing and developing economic activities in Washington and northern St. Tammany Parishes that rely on the highway network to reach their markets by providing a travel time savings.

The Corps defines the overall project purpose as to construct a four-lane arterial highway from the southern terminus of LA 21 in Bush, Louisiana, to I-12. The need for the project is to meet a legislative mandate in Louisiana Revised Statute 47:820.2B(e), which requires, “[t]he Louisiana Highway 3241 project from Interstate 12 to Bush* * *shall be constructed as a [four]-lane or more highway.”

The project area is entirely within St. Tammany Parish, Louisiana, and roughly bounded by LA 21, U.S. Highway (US) 190, I-12, US 11, and LA 41. It encompasses approximately 245 square miles in area and includes the incorporated areas of Abita Springs, Pearl River, and portions of the cities of Slidell and Covington. Unincorporated areas such as Bush, Hickory, Talisheek, and Waldheim are included in the project area.

The DEIS examines the No Build Alternative, Alternative B/O, Alternative J, Alternative P, and Alternative Q as the principal alternatives for detailed analysis. These alternatives are described in the following paragraphs.

Alternative 1: No Build Alternative. Under the No Build Alternative, the Corps would not issue any permits for construction of a new modern, high-speed, four-lane highway between Bush and I-12. As a result, the existing roadway network in the region would remain in its current condition and continue to serve as the transportation network to travel between Bush and I-12. The No Build Alternative ensures that there would be no direct or indirect impacts to threatened and endangered species, wetlands, environmentally sensitive areas, aquatic resources, or historic sites. Including the CEQ-required No Build Alternative in the EIS serves as a benchmark against which build alternatives can be evaluated. If the proposed highway is not constructed, project-related impacts would be avoided. Other alternatives would have to be developed to provide anticipated project benefits.

Alternative 2: Alternative B/O. Under Alternative B/O, LA 21 would be widened to a four-lane highway from Bush to just north of Waldheim, then continue as a new four-lane roadway approximately 5 miles west of LA 1083, terminating at LA 1088 near I-12. The alternative would be approximately 19.5 miles long, with 7.0 miles on existing alignment and 12.5 miles on new alignment. The majority of the alignment would consist of an RA-3 typical cross section, which would have a typical ROW width requirement of 250 feet. Control of access could be provided except where the highway follows existing LA 21 and highway crossings at LA 435 and LA 36, and the connection to LA 1088.

Alternative 3: Alternative J. Under Alternative J, a new four-lane highway following the abandoned railroad corridor would be constructed from Bush to a point due north of the Slidell Municipal Airport. From that point, the proposed route would connect to Airport Road, which ties into I-12 at an existing interchange (Exit 80). This proposed route would be approximately 21.1 miles long, with 14.2 miles using the abandoned railroad embankment, 5.4 miles on new alignment, and 1.5 miles of existing roadway. The majority of the route (17.5 miles) would consist of an RA-3 typical cross section, which would have a typical ROW width of 250 feet. The northern 0.7 mile of the route would consist of a rural arterial-2 (RA-2) cross section, while the southern 1.9 miles would have suburban arterial SA-1 cross section. Control of access to the route could be provided for the section of highway classified as RA-3 (17.5 miles), except for the segment through Talisheek (2.0 miles) and where the highway crosses LA 435 and LA 36.

Alternative 4: Alternative P. Under Alternative P, a new alignment would begin at the intersection of LA 41 and LA 40 in Bush and proceed southward for approximately 17.4 miles to LA 1088. The majority of the project (15.2 miles) would consist of an RA-3 typical cross section, which has a typical ROW width requirement of 250 feet. The northern 0.7 mile of the project would consist of an RA-2 cross section, which also has a ROW width of 250 feet. The exception to that design would be at the southern end of the project area. The last 1.5 miles would be designed as a suburban arterial -1 typical section, which has a ROW width of approximately 180 feet. The proposed route would use an abandoned railroad corridor from Bush to Talisheek, a distance of approximately 2.5 miles, before turning southwesterly for approximately 13.3 miles on a new alignment to connect with LA 1088 north of I-12. Access for this route would be provided in Bush, at LA 435, at LA 36, and at the intersection with LA 1088. Crossings of existing highways would be at grade.

Alternative 5: Alternative Q. Under Alternative Q, a new four-lane highway following the abandoned railroad corridor would be constructed from Bush to a point approximately 1.7 miles north of LA 36. From that point, the proposed route would leave the railroad corridor and connect to LA 434, which ties into I-12 at an existing interchange (Exit 74). This alternative would be approximately 19.8 miles long, with 9.8 miles using the abandoned railroad embankment, 8.7 miles on new alignment, and 1.3 miles on existing roadway. The majority of the alternative (17.2 miles) would consist of an RA-3 typical cross section, which would have a typical ROW width of 250 feet. The northern 0.7 miles of the route would have an RA-2 cross section, with a ROW width of 250 feet. Control of access to the route could be provided for the section of highway classified as RA-3 (17.3 miles), except for the segment through Talisheek (2.0 miles) and where the highway crosses LA 435, LA 36, and connects to LA 434.

In accordance with the National Environmental Policy Act (NEPA), we have filed the DEIS with the U.S. Environmental Protection Agency (EPA) for publication of their notice of availability in the Federal Register. The EPA notice officially starts the 45-day review period for this document. It is the goal of the USACE to have this notice published on the same date as the EPA notice. However, if that does not occur, the date of the EPA notice will determine the closing date for comments on the DEIS.

Scoping: A Scoping Meeting was held in Abita Springs, Louisiana, on January 22, 2009 to solicit input from interested agencies and the public regarding the range of issues and alternatives that should be considered in the EIS. A Public notice was posted on the District's webpage and local newspapers, and mailed to current stakeholder lists with notification of the public meetings and requesting input and comments on issues that should be addressed in the DEIS.

A public hearing for this DEIS will be held on September 28, 2011 from 6 to 8:30 p.m. in Abita Springs, Louisiana, at the Abita Springs Town Hall located on 22161 Level Street. The purpose of this public hearing is to provide the public the opportunity to comment, either orally or in writing, on the DEIS. Notification of the hearing will be announced following the same format as the Scoping Meetings announcements.

The DEIS is available online on the New Orleans District Web site at http://www.mvn.usace.army.mil/ops/regulatory/reg_regulatory_news.asp and the I-12 to Bush Web site at http://www.i12tobush.com. Copies of the DEIS are also available for review at the following libraries:

1. St. Tammany Parish Library:

—Abita Springs Branch, 71683 Leveson Street, Abita Springs, LA 70420.

—Bush Branch, 81597 Highway 41, Bush, LA 70431.

—Covington Branch, 310 W. 21st Avenue, Covington, LA 70433.

—Lee Road Branch, 79213 Highway 40, Covington, LA 70435.

—Mandeville Branch, 844 Girod Street, Mandeville, LA 70448.

—Pearl River Branch, 64580 Highway 41, Pearl River, LA 70452.

—Slidell Branch, 555 Robert Boulevard, Slidell, LA 70458.

2. Franklinton Library, 825 Free Street, Franklinton, LA 70438.

3. Bogalusa Library, 304 Avenue F, Bogalusa, LA 70427.

4. Louisiana State Library, 701 North 4th Street, Baton Rouge, LA 70802.

5. University of New Orleans, Earl K. Long Library, Louisiana Collection, 2000 Lakeshore Drive, New Orleans, LA 70148.

Dated: August 25, 2011.
Pete J. Serio,
Chief, Regulatory Division.

[FR Doc. 2011-23085 Filed 9-8-11; 8:45 am]

BILLING CODE 3720-58-P